DEPARTMENT OF ENERGY

Federal Energy Regulatory Commission

[Project Nos.: P-2197-073 and P-2206-030]

Alcoa Power Generating, Inc., Notice of Intent To Prepare an Environmental Impact Statement and Notice of Scoping Meetings and Site Visit and Soliciting Scoping Comments

December 21, 2006.

Take notice that the following hydroelectric applications have been filed with Commission and are available for public inspection:

a. Type of Applications: New Major Licenses.

b. Project Nos.: P-2197-073 and P-2206-030.

c. Dates filed: April 25, 2006 and April 26, 2006.

d. Applicants: Alcoa Power Generating, Inc. and Carolina Power and Light Company d/b/a/ Progress Energy Carolinas, Inc.

e. Names of Projects: Yadkin Hydroelectric Project and Yadkin-Pee Dee River Hydroelectric Project.

f. Locations: The Yadkin Project is located on the Yadkin River in Davidson, Davie, Montgomery, Rowan, and Stanly Counties, North Carolina. The Yadkin-Pee Dee River Project is located on the Yadkin and Pee Dee Rivers in Anson, Montgomery, Richmond, and Stanly Counties, North Carolina. There are no federal lands affected by these projects.

g. Filed Pursuant to: Federal Power Act, 16 U.S.C. 791(a)—825(r).

h. Applicant Contacts: Yadkin Project-Mr. Gene Ellis, Licensing and Property Manager, Alcoa Power Generating, Inc., Yadkin Division, P.O. Box 576, NC Highway 740, Badin, NC 28009-0576.

Yadkin-Pee Dee Project-E. Michael Williams, Senior Vice President Power Operations, Progress Energy, 410 S. Wilmington Street PEB 13, Raleigh, North Carolina 27602; Telephone (919) 546-6640.

i. FERC Contacts: Stephen Bowler at (202) 502-6861 or stephen.bowler@ferc.gov, or Lee Emery at (202) 502-8379 or lee.emery@ferc.gov.

j. Deadline for filing scoping comments: February 26, 2007.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the

• I11“e-Filing” link.

k. This application is not ready for environmental analysis at this time.

l. The existing Yadkin Project consists of four developments on the Yadkin River: High Rock, Tuckertown, Narrows, and Falls. The High Rock development is the furthest upstream development, located at river mile (RM 253, and includes the following existing facilities: (1) A dam and spillway; (2) 10 flood gates; (3) a 14,400-acre reservoir, with a normal pool elevation of 623.9 feet U.S. Geological Survey (USGS) datum and a usable storage capacity of 217,400 acre-feet; and (4) a powerhouse, integral to the dam, containing three turbine-generator units with a total installed capacity of 32 megawatts (MW).

The Tuckertown development (RM 244.3) includes the following existing facilities: (1) dam; (2) spillway with 11 gates; (3) a 2,560-acre reservoir, with a normal pool elevation of 564.7 feet USGS and a usable storage capacity of 6,700 acre-feet; and (4) a powerhouse, integral to the dam, containing three turbine-generator units with a total installed capacity of 38 MW.

The Narrows development (RM 236.5) includes the following existing facilities: (1) A dam and spillway; (2) 22 flood gates and a trash gate; (3) an intake structure with four openings each with two gates; (4) four penstocks; (5) a powerhouse downstream of the dam; (6) a bypass spillway with 10 control gates and a trash gate; (7) a 5,355-acre reservoir, with a normal pool elevation of 509.8 feet USGS and a usable storage capacity of 129,100 acre-feet; and (8) four turbine-generators with a total installed capacity of 108 MW.

The Falls development (RM 234) includes the following constructed facilities: (1) A dam; (2) a spillway with 12 flood gates and a trash gate; (3) a 204-acre reservoir, with a normal pool elevation of 332.8 feet USGS and a usable storage capacity of 940 acre-feet; and (4) a powerhouse, integral to the dam, and containing three turbine-generators with a total installed capacity of 31 MW.

Alcoa Generating operates the High Rock development in a store-and-release mode and the Tuckertown, Narrows, and Falls developments in a run-of-river mode on a daily basis. The High Rock development provides storage for the three downstream developments. The maximum annual drawdown for High Rock is 13 feet.

The existing Yadkin-Pee Dee Project consists of the Tillery development on the Yadkin and Pee Dee Rivers and the Blewett Falls development on the Pee Dee River. The Tillery development (RM 218) includes the following existing facilities: (1) a dam and spillway; (2) 18 flood gates; (3) a trash sluice gate; (4) a 5,697-acre reservoir, with a normal pool elevation of 277.3 feet North American Vertical Datum of 1988 (NAVD 88) and a usable storage capacity of 84,150 acre-feet; (5) a powerhouse, integral to the dam, containing four turbine-generators with a total installed capacity of 84 MW; and (6) a small turbine powering a “house generator” with an installed capacity of 360 kW.

The Blewett Falls development (RM 188.2) includes the following existing facilities: (1) A dam and spillway; (2) wooden flashboards; (3) a 2,866-acre reservoir, with a normal pool elevation of 177.2 feet NAVD 88 and a usable storage capacity of 30,893 acre-feet; (4) a powerhouse, integral to the dam, containing six pairs of turbine-generators, each pair with its own penstock and headgate, for a total installed capacity of 24.6 MW; and (5) a 900-foot-long tailrace channel.

The Tillery development is operated as a peaking facility with a typical drawdown of not more than 4 feet under normal conditions. The Blewett Falls development is operated as a re-regulating facility, smoothing out flows released from the upstream developments.

Alcoa Generating and Progress Energy propose to continue operating the projects with proposed protection and enhancement measures.

The proposed projects are described in detail in Scoping Document 1 (SD1).

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

n. Scoping Process. The Commission intends to prepare an Environmental Impact Statement (EIS) on the project in accordance with the National Environmental Policy Act. The EIS will consider both site-specific and cumulative environmental impacts and reasonable alternatives to the proposed action.

Scoping Meetings. FERC staff will conduct one agency scoping meeting and three public meetings. The agency scoping meeting will focus on resource agency and non-governmental organization (NGO) concerns, while the public scoping meetings are primarily for public input. All interested individuals, organizations, and agencies are invited to attend one or more of the meetings, and to assist the staff in identifying the scope of the environmental issues that should be analyzed in the EIS. The times and locations of these meetings are as follows:

Yadkin Evening Scoping Meeting #1

Date: Tuesday, January 23, 2007

Time: 7 p.m.-9 p.m. (EST)

Place: Edward C. Smith Civic Center (Old Carolina Theatre)

Address: 217 South Main St., Lexington, NC

Yadkin Evening Scoping Meeting #2

Date: Wednesday, January 24, 2007

Time: 7 p.m.-9 p.m. (EST)

Place: Stanly County Agri-Civic Center

Address: 26032-b Newt Road, Albemarle, NC

Yadkin-Pee Dee Evening Scoping Meeting

Date: Thursday, January 25, 2007

Time: 7 p.m.-9 p.m. (EST)

Place: Lockhart Taylor Center

At South Piedmont Community College

Address: 514 North Washington Street, Wadesboro, NC

Yadkin and Yadkin-Pee Dee Afternoon, Agency Scoping Meeting

Date: Wednesday, January 24, 2007

Time: 1 p.m.-5 p.m. (EST)

Place: Stanly County Agri-Civic Center

Address: 26032-b Newt Road, Albemarle, NC

Copies of the SD1 outlining the subject areas to be addressed in the EIS were distributed to the parties on the Commission's mailing list. Copies of the SD1 will be available at the scoping meeting or may be viewed on the Web at http://www.ferc.gov using the “eLibrary” link (see item m above).

Site Visit. We will also conduct a tour of the project sites over a 4-day period. Those interested are invited to attend all or part of the tours. Advanced registration is required in order to allow travel logistics to be arranged. If you would like to participate in the Yadkin site visits, please contact Jody Cason at jjcason@att.net or 804-639-6278 no later than Friday, January 12, 2007. If you would like to participate in the Yadkin-Pee Dee site visits, please contact Sandie Upchurch at 910-439-5211, ext 1201, no later than Friday, January 12, 2007.

Yadkin Project Site Visits

Monday, January 22*

9-9:30 Badin Boat Access Area

9:45-12 Narrows dam

12-1 Lunch

1:15-3 Falls dam

3:30-4 Old Whitney Access Area (if needed)

Tuesday, January 23*

9-10:30 Salisbury pump station

10:45-11:15 Dutch Second Creek Access Area

11:30-12 Rowan County Tailrace Access below High Rock reservoir

12-1 Lunch 1:15-2:30 High Rock dam

2:45-4 Tuckertown dam

Yadkin-Pee Dee Project Site Visits

Wednesday, January 24*

9-11 Meet at Morrow Mountain State Park Tour Tillery Lake shore by van

Thursday, January 25*

9-9:30 Meet at Tillery powerhouse, safety orientation

9:30-11 Tour Tillery powerhouse and dam

11-12 Travel to Blewett powerhouse; lunch

12-12:15 Blewett orientation

12:15-1:15 Blewett powerhouse and spillway tour

1:15-1:30 Travel to Pee Dee boat ramp (Anson County)

1:30-2:30 Blewett Lake and Grassy Islands

2:30-2:45 Take out and depart

*Advanced registration is required in order to allow travel logistics to be arranged.

Objectives

At the scoping meetings, the staff will: (1) Summarize the environmental issues tentatively identified for analysis in the EIS; (2) solicit from the meeting participants all available information, especially quantifiable data, on the resources at issue;

(3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Magalie R. Salas,
Secretary.

[FR Doc. E6-22362 Filed 12-28-06; 8:45 am]

BILLING CODE 6717-01-P